DEPARTMENT OF ENERGY

Federal Energy Regulatory Commission

[Docket No. RP00-411-004]

Iroquois Gas Transmission System, L.P.; Notice of Compliance Filing

December 6, 2002.

Take notice that on December 2, 2002, Iroquois Gas Transmission System, L.P. (Iroquois) tendered for filing as part of its FERC Gas Tariff, First Revised Volume No. 1, the following tariff sheets proposed to become effective November 1, 2002:

Fifth Revised Sheet No. 41

Seventh Revised Sheet No. 46

Ninth Revised Sheet No. 47

Seventh Revised Sheet No. 92

Iroquois states that these sheets were submitted in compliance with the Commission's November 26, 2002 Letter Order issued in Docket No. RP00-411-002.

Iroquois states that copies of its filing and have been mailed to all firm customers, interruptible customers, state regulatory commissions and other interested parties.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 02-31318 Filed 12-11-02; 8:45 am]

BILLING CODE 6717-01-P